DEPARTMENT OF THE INTERIOR

National Park Service

[NPS-WASO-NAGPRA-15214; PPWOCRADN0-PCU00RP14.R50000]

Notice of Inventory Completion: Ball State University Department of Anthropology, Muncie, IN

AGENCY: National Park Service, Interior.

ACTION: Notice.

SUMMARY: The Ball State University Department of Anthropology has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Ball State University Department of Anthropology. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Ball State University Department of Anthropology at the address in this notice by April 30, 2014.

ADDRESSES: Cailin Murray, Ball State University Department of Anthropology, 2000 University Ave., Muncie, IN 47306, telephone (765) 285-3568, email cemurray@bsu.edu.

SUPPLEMENTARY INFORMATION: Notice is here given in accordance with the Native American Graves Protection and Repatriation Act (NAGPRA), 25 U.S.C. 3003, of the completion of an inventory of human remains and associated funerary objects under the control of the Ball State University Department of Anthropology, Muncie, IN. The human remains and associated funerary objects were removed from Tolu, in Crittenden County, KY.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Ball State University Department of Anthropology professional staff in consultation with representatives of the Cherokee Nation; Eastern Band of Cherokee Indians; Peoria Tribe of Indians of Oklahoma; and the United Keetoowah Band of Cherokee Indians in Oklahoma.

History and Description of the Remains

In 1974, human remains representing, at minimum, three individuals were removed from Tolu in Crittenden County, KY. The human remains were collected from the surface during a field trip to the site and have been curated since then at Ball State University Department of Anthropology (accession # 75F). The human remains are identified as comingled cranial and post-cranial fragments with unknown sex and age. No known individuals were identified. The 392 associated funerary objects are 3 cores, 1 stage II biface, 2 stage III bifaces, 26 initial reduction flakes, 51 primary flakes, 97 broken flakes, 51 block flakes, 31 edge-modified flakes, 15 retouched flakes, 6 gravers, 1 perforators, 10 bipolar artifacts, 1 fire-cracked rock, 3 point fragments, 1 Madison point, 22 pottery sherds, 15 animal bones, 52 shell fragments, 2 quartz, 1 charcoal, and 1 field tile.

Determinations Made by the Ball State University Department of Anthropology

Officials of the Ball State University Department of Anthropology have determined that:

• Pursuant to 25 U.S.C. 3001(9), the human remains described in this notice are Native American based on the associated prehistoric artifacts and animal bone.

• Pursuant to 25 U.S.C. 3001(9), the human remains described in this notice represent the physical remains of three individuals of Native American ancestry.

• Pursuant to 25 U.S.C. 3001(3)(A), the 392 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Cherokee Nation; Eastern Band of Cherokee Indians; Peoria Tribe of Indians of Oklahoma; and the United Keetoowah Band of Cherokee Indians in Oklahoma.

• Pursuant to 43 CFR 10.11(c)(1), the disposition of the human remains and associated funerary objects may be to the Cherokee Nation; Eastern Band of Cherokee Indians; Peoria Tribe of Indians of Oklahoma; and the United Keetoowah Band of Cherokee Indians in Oklahoma.

Additional Requestors and Disposition

Representatives of any Indian tribe or Native Hawaiian organization not identified in this notice that wish to request transfer of control of these human remains and associated funerary objects should submit a written request with information in support of the request to Cailin Murray, Ball State University Department of Anthropology, 2000 University Ave., Muncie, IN 47306, telephone (765) 285-3568, email cemurray@bsu.edu by April 30, 2014. After that date, if no additional requestors have come forward, transfer of control of the human remains and associated funerary objects to the Cherokee Nation; Eastern Band of Cherokee Indians; Peoria Tribe of Indians of Oklahoma; and the United Keetoowah Band of Cherokee Indians in Oklahoma may proceed.

The Ball State University Department of Anthropology is responsible for notifying the Cherokee Nation; Eastern Band of Cherokee Indians; Peoria Tribe of Indians of Oklahoma; and the United Keetoowah Band of Cherokee Indians in Oklahoma that this notice has been published.

Dated: March 10, 2014.
Sherry Hutt,
Manager, National NAGPRA Program.

[FR Doc. 2014-07141 Filed 3-28-14; 8:45 am]

BILLING CODE 4312-50-P